NUCLEAR REGULATORY COMMISSION

Proposed Revisions to NUREG/BR-0006 and NUREG/BR-0007

AGENCY: Nuclear Regulatory Commission.

ACTION: Notice of opportunity for public comment.

SUMMARY: The U.S. Nuclear Regulatory Commission (NRC) is proposing revisions to NUREG/BR-0006, “Instructions for the Preparation and Distribution of Material Transaction Reports.” http://www.nrc.gov/reading-rm/doc-collections/nuregs/brochures/br0006/ and NUREG/BR-0007, “Instructions for the Preparation and Distribution of Material Status Reports.” http://www.nrc.gov/reading-rm/doc-collections/nuregs/brochures/br0007/ The purpose of these revisions are to incorporate (1) proposed rule changes for nuclear material reporting requirements, (2) upgrades to the Nuclear Material Management and Safeguards System, and (3) editorial changes. The NRC is seeking comment from interested parties on the clarity of the proposed revisions and will consider the comments received in its final evaluation of the NUREGs. Comments should address the contents of the guidance presented in the NUREGs but not the regulations associated with it.

DATES: Comment period expires April 23, 2007. Comments submitted after this date will be considered if it is practical to do so, but assurance of consideration cannot be given except for comments received on or before this date.

ADDRESSES: Submit written comments to the Chief, Rules and Directives Branch, Division of Administrative Services, Office of Administration, U.S. Nuclear Regulatory Commission, Mail Stop T6-D59, Washington, DC 20555-0001, and cite the publication date and page number of this Federal Register notice. Written comments may also be delivered to NRC Headquarters, 11545 Rockville Pike (Room T-6D59), Rockville, Maryland, between 7:30 a.m. and 4:15 p.m. on Federal workdays.

FOR FURTHER INFORMATION, CONTACT: Brian Horn at (301) 415-8128 or by e-mail to bgh1@nrc.gov or Chris Graves at (301) 415-6525 or by e-mail to dcg@nrc.gov.

Dated at Rockville, Maryland, this 9th day of March, 2007.
Jane Marshall,
Chief, Material Control and Accounting Branch, Division of Fuel Cycle Safety and Safeguards, Office of Nuclear Material Safety and Safeguards.

[FR Doc. E7-5150 Filed 3-20-07; 8:45 am]

BILLING CODE 7590-01-P